NATIONAL CAPITAL PLANNING COMMISSION

Notice of Public Comment Period and Public Meeting on the Revisions to the Submission Guidelines

AGENCY: National Capital Planning Commission.

ACTION: Notice of 60-Day public comment period and public meeting.

SUMMARY: The National Capital Planning Commission (NCPC) has released revisions to the Submission Guidelines to update aspects of submission requirements related to transportation planning. Federal and non-federal agency applicants whose development proposals and plan are subject to statutory mandated Commission plan and project review must submit their proposals to the Commission following a process laid out in the Submission Guidelines. The proposed revisions to the Submission Guidelines support the draft Transportation Element of the Comprehensive Plan for the National Capital: Federal Elements which NCPC also released for public comment. The revisions to the Submission Guidelines are available online for review at https://www.ncpc.gov/initiatives/transportation.

DATES AND TIME: The public comment period closes November 12, 2019.

ADDRESSES: Written public comments on the draft may be submitted by either method:

1. U.S. mail, courier, or hand deliver: Transportation Element Public Comment, National Capital Planning Commission, 401 9th Street NW, Suite 500N, Washington, DC 20004.

2. Electronically: https://www.ncpc.gov/initiatives/transportation.

FOR FURTHER INFORMATION CONTACT: Jennifer Hirsch at (202) 482-7239 or info@ncpc.gov.

SUPPLEMENTARY INFORMATION:

Public Meeting: NCPC will host an open house event for the public to learn more about the revisions to the Submission Guidelines, as well as the draft Transportation Element of the Comprehensive Plan for the National Capital. The open house will be on October 7, 2019 from 6:00 p.m. to 7:30 p.m.. The meeting will be held at NCPC 401 9th Street NW, Suite 500N, Washington, DC 20004.

Authority: 40 U.S.C. 8721(e)(2).

Dated: September 6, 2019.
Anne R. Schuyler,
General Counsel.

[FR Doc. 2019-19629 Filed 9-10-19; 8:45 am]

BILLING CODE 7502-02-P